DEPARTMENT OF THE INTERIOR

National Park Service

[NPS-WASO-NRNHL-15817; PPWOCRADI0, PCU00RP14.R50000]

National Register of Historic Places; Notification of Pending Nominations and Related Actions

Nominations for the following properties being considered for listing or related actions in the National Register were received by the National Park Service before May 10, 2014. Pursuant to section 60.13 of 36 CFR part 60, written comments are being accepted concerning the significance of the nominated properties under the National Register criteria for evaluation. Comments may be forwarded by United States Postal Service, to the National Register of Historic Places, National Park Service, 1849 C St. NW., MS 2280, Washington, DC 20240; by all other carriers, National Register of Historic Places, National Park Service, 1201 Eye St. NW., 8th Floor, Washington, DC 20005; or by fax, 202-371-6447. Written or faxed comments should be submitted by June 13, 2014. Before including your address, phone number, email address, or other personal identifying information in your comment, you should be aware that your entire comment—including your personal identifying information—may be made publicly available at any time. While you can ask us in your comment to withhold your personal identifying information from public review, we cannot guarantee that we will be able to do so.

Dated: May 13, 2014.
J. Paul Loether,
Chief, National Register of Historic Places/, National Historic Landmarks Program.

ALABAMA

Madison County

Ford, Hezekiah, House, 920 Countess Rd., Huntsville, 14000318

Jordan—Moore House, 565 Ryland Pike, Huntsville, 14000319

FLORIDA

Miami-Dade County

Thomas, Arden “Doc”, House, 5530 Sunset Dr., South Miami, 14000320

IOWA

Linn County

West Side Third Avenue SW. Commercial Historic District, (Commercial & Industrial Development of Cedar Rapids MPS) 3rd Ave. SW. between 1st. & 3rd Sts. SW., Cedar Rapids, 14000323

Lucas County

Lucas County Courthouse Square Historic District, Braden Ct., Grand & Main Sts. around the Public Sq., Chariton, 14000324

MARYLAND

Frederick County

Catoctin Recreational Demonstration Area Historic District, (ECW Architecture in Catoctin Mountain Park MPS) 6602 Foxville Rd., Thurmont, 14000325

MASSACHUSETTS

Franklin County

North Leverett Historic District, North Leverett, Chestnut Hill, Cave Hill, Jackson Hill, Hemenway & Dickinson Rds., Leverett, 14000326

Middlesex County

Old Bedford Center Historic District (Boundary Increase and Decrease), Roughly The Great Rd. from Bacon Rd., Memorial Park & Narrow Gauge Trail on E. to North & Concord Rds. on W., Bedford, 14000327

MISSOURI

Buchanan County

Neely Elementary School, 1909 S. 12th St., St. Joseph, 14000328

NEW YORK

Chenango County

Loomis Family Farm, 414 S. Tyner Rd., Oxford, 14000329

New York County

Building at 116 John Street, 116 John St., New York, 14000331

Washington County

Farmer's National Bank and W.H. Hughes Slate Company Office, 44-46 Main St., Granville, 14000330

NORTH CAROLINA

Forsyth County

North Cherry Street Historic District (Boundary Decrease and Additional Documentation), 1407, 1408, 1409, 1410-12, 1411-13, 1415, 1419, 1463, 2067 N. Cherry St., Winston-Salem, 14000332

Hertford County

Barnes, David A., House, 625 W. Main St., Murfreesboro, 14000333

Wake County

Pugh House, (Wake County MPS) 103 Page St., Morrisville, 14000334

NORTH DAKOTA

Morton County

Hotel Brown, 202 Main St. N., Flasher, 14000335

OHIO

Hamilton County

Crescent, The, (Apartment Buildings in Ohio Urban Centers, 1870-1970 MPS) 3719 Reading Rd., Cincinnati, 14000336

Over-the-Rhine Historic District (Boundary Increase), 308-322, 500-550 Reading Rd., 222 W. 12th St., 1208, 1416-1430, 1544, 1600, 1628, 1900 Central Pkwy., Cincinnati, 14000337

Summit County

Firestone Tire and Rubber Company, 1200 Firestone Pkwy., Akron, 14000338

TEXAS

Fort Bend County

Methodist Church of Richmond, 400 Jackson St., Richmond, 14000339

Galveston County

Cemetery Historic District, 6 blks. between Broadway Ave., Ave. L, 43rd & 40th Sts., Galveston, 14000340

Hidalgo County

Griffin, Mary S. and Gordon, House, 704 N. 15th St., McAllen, 14000341

La Salle County

Cotulla Ranch, 1 mi. W. of jct. of 1-35 & Crockett St., Cotulla, 14000342

Tarrant County

Fort Worth Recreation Building, 215 W. Vickery Blvd., Fort Worth, 14000343

In the interest of preservation, a three day comment period is requested for the following resources:

FLORIDA

Pinellas County

Tarpon Springs Greektown Historic District, Bounded by Dodecanese & Roosevelt Blvds., W. Tarpon & N. Pinellas Aves., Tarpon Springs, 14000321

GEORGIA

DeKalb County

Northwoods Historic District, Roughly bounded by Buford Hwy., Chamblee-Tucker & Shallowford Rds., I-85 & I-285, Doraville, 14000322

[FR Doc. 2014-12401 Filed 5-28-14; 8:45 am]

BILLING CODE 4312-51-P